NUCLEAR WASTE TECHNICAL REVIEW BOARD

Board Meeting

Board Meeting: May 9, 2006—McLean, Virginia; The U.S. Nuclear Waste Technical Review Board will meet to discuss the Department of Energy's (DOE) proposed implementation of a canister system for transportation, aging, and disposal (TAD) of spent nuclear fuel.

Pursuant to its authority under 5051 of Public Law 100-203, Nuclear Waste Policy Amendments Act of 1987, the U.S. Nuclear Waste Technical Review Board will meet in McLean, Virginia, on Tuesday May 9, 2006. The Board was charged in the Nuclear Waste Amendments Act of 1987 with conducting an independent review of the technical and scientific validity of U.S. Department of Energy (DOE) activities related to disposing of, packaging, and transporting spent nuclear fuel and high-level radioactive waste. At the May meeting, the Board will review DOE efforts to develop and implement a “clean canister” or “TAD” approach to waste management. If the TAD concept is adopted, nuclear utilities would seal spent fuel into canisters at reactor sites. The canisters could then be loaded into casks for transportation, aging, or disposal of the waste. Also on the agenda is a discussion of infiltration data and an update on Yucca Mountain surface- facilities-design.

A final meeting agenda will be available on the Board's Web site (http://www.nwtrb.gov) approximately one week before the meeting date. The agenda also may be obtained by telephone request at that time. The meeting will be open to the public, and opportunities for public comment will be provided.

The meeting will be held at the Hilton Tysons Corner; 7920 Jones Branch Drive; McLean, Virginia 22102; telephone 703-847-5000; fax 703-761-5100.

The meeting will begin at 8 a.m. with an overview of the Yucca Mountain program and the TAD canister concept by DOE representative and reactions to the TAD program by industry representatives. After lunch, additional presentations will discuss the technical analyses that support the TAD decision and the effects of adopting a TAD system on design of Yucca Mountain program and the TAD canister concept by DOE representatives and reactions to the TAD program by industry representatives. After lunch, additional presentations will discuss the technical analyses the support TAD decision and the effects of adopting a TAD system on design of Yucca Mountain surface facilities. In addition to the TAD presentations, one or more presentations on other topics are expected, including a review of infiltration data.

Time will be set aside at the end of the day for public comments. Those wanting to speak are encouraged to sign the “Public Comment Register” at the check-in-table. A time limit may have to be set on individual remarks, but written comments of any length may be submitted for the record.

Transcripts of the meetings will be available on the Board's Web site, by e-mail, on computer disk, and on a library-loan basis in paper format from Davonya Barnes of the Board's staff, no later than June 1, 2006.

A block of rooms has been reserved for meeting participants at the Hilton Tysons Corner. When making a reservation, please state that you are attending the Nuclear Waste Technical Review Board meeting. Reservations should be made by April 17, 2006, to ensure receiving the meeting rate.

For more information, contact Karyn Severson, NWTRB External Affairs; 2300 Clarendon Boulevard, Suite 1300; Arlington, VA 22201-3367; 703-235-4473; fax 703-235-4495.

Dated: April 5, 2006.
William D. Barnard,
Executive Director, Nuclear Waste Technical Review Board.

[FR Doc. 06-3469 Filed 4-11-06; 8:45 am]

BILLING CODE 6820-AM-M